DEPARTMENT OF ENERGY

Federal Energy Regulatory Commission

[Docket No. CP13-501-000]

Dominion Transmission, Inc.; Notice of Application To Amend Certificates and Authorize Abandonment by Sale

Take notice that on June 13, 2013, Dominion Transmission, Inc. (DTI), 120 Tredegar Street, Richmond, VA filed an application under Section 7 of the Natural Gas Act and Part 157 the Commission's Rules and Regulations for authorization abandon its existing Line No. TL-388 and associated facilities by sale to Blue Racer Midstream, LLC (Blue Racer), a gathering company. DTI further requested authority to amend certain certificates to remove and/or replace the affected pipeline interconnects from its Part 157 service agreements, and to abandon related pipeline interconnects on Line No. TL-388, all as more fully set forth in the application which is on file with the Commission and open to public inspection.

DTI plans to cut and cap TL-388 at Texas Eastern Transmission, LP—Summerfield, Tennessee Gas—Pipeline-Gilmore, Rockies Express Pipeline LLC—Noble, and upstream of the interconnect with DTI's TL-384 pipeline near DTI's Gilmore Measuring Station. There potentially may be some very localized, minimal ground disturbances to disconnect the abandoned facilities, and to remove and relocate the M&R equipment.

Following the sale, Blue Racer will use the facilities to provide a gathering function. Blue Racer plans to tie the northern end of TL-388 into Blue Racer's Guernsey to Lewis connector. DTI then plans to tie the southern end of TL-388 into Blue Racer's proposed Berne processing plant. Blue Racer will use the TL-388 facilities to gather Utica Shale production for processing at one of Blue Racer's plants—Natrium, Lewis or Berne. Blue Racer has agreed to pay for all costs of the interim receipt interconnect and will retain ownership of (and DTI will abandon) the interim receipt facilities as part of the transfer of the TL-388 facilities.

The filing may also be viewed on the web at http://www.ferc.gov using the “eLibrary” link. Enter the docket number excluding the last three digits in the docket number field to access the document. For assistance, please contact FERC Online Support at FERCOnlineSupport@ferc.gov or toll free at (866) 208-3676, or TTY, contact (202) 502-8659.

Pursuant to Section 157.9 of the Commission's rules, 18 CFR 157.9, within 90 days of this Notice the Commission staff will either: Complete its environmental assessment (EA) and place it into the Commission's public record (eLibrary) for this proceeding; or issue a Notice of Schedule for Environmental Review. If a Notice of Schedule for Environmental Review is issued, it will indicate, among other milestones, the anticipated date for the Commission staff's issuance of the final environmental impact statement (FEIS) or EA for this proposal. The filing of the EA in the Commission's public record for this proceeding or the issuance of a Notice of Schedule for Environmental Review will serve to notify federal and state agencies of the timing for the completion of all necessary reviews, and the subsequent need to complete all federal authorizations within 90 days of the date of issuance of the Commission staff's FEIS or EA.

Any questions regarding this Application should be directed to Machelle F. Grim, Dominion Resources Services, Inc., 701 East Cary Street, 5th Floor, Richmond, VA 23219, telephone no. (804) 771-3805, facsimile no. (804) 771-4804 and email: Machelle.F.Grim@dom.com.

There are two ways to become involved in the Commission's review of this project. First, any person wishing to obtain legal status by becoming a party to the proceedings for this project should, before the comment date of this notice, file with the Federal Energy Regulatory Commission, 888 First Street NE., Washington, DC 20426, a motion to intervene in accordance with the requirements of the Commission's Rules of Practice and Procedure (18 CFR 385.214 or 385.211) and the Regulations under the NGA (18 CFR 157.10). A person obtaining party status will be placed on the service list maintained by the Secretary of the Commission and will receive copies of all documents filed by the applicant and by all other parties. A party must submit 5 copies of filings made with the Commission and must mail a copy to the applicant and to every other party in the proceeding. Only parties to the proceeding can ask for court review of Commission orders in the proceeding.

However, a person does not have to intervene in order to have comments considered. The second way to participate is by filing with the Secretary of the Commission, as soon as possible, an original and two copies of comments in support of or in opposition to this project. The Commission will consider these comments in determining the appropriate action to be taken, but the filing of a comment alone will not serve to make the filer a party to the proceeding. The Commission's rules require that persons filing comments in opposition to the project provide copies of their protests only to the party or parties directly involved in the protest.

Persons who wish to comment only on the environmental review of this project should submit an original and two copies of their comments to the Secretary of the Commission. Environmental commenters will be placed on the Commission's environmental mailing list, will receive copies of the environmental documents, and will be notified of meetings associated with the Commission's environmental review process. Environmental commenters will not be required to serve copies of filed documents on all other parties. However, the non-party commenters will not receive copies of all documents filed by other parties or issued by the Commission (except for the mailing of environmental documents issued by the Commission) and will not have the right to seek court review of the Commission's final order.

Comments, protests and interventions may be filed electronically via the Internet in lieu of paper. See, 18 CFR 385.2001(a)(1)(iii) and the instructions on the Commission's Web site under the “e-Filing” link.

Comment Date: 5:00 p.m. Eastern Time on July 11, 2013.

Dated: June 20, 2013.
Kimberly D. Bose,
Secretary.

[FR Doc. 2013-15409 Filed 6-26-13; 8:45 am]

BILLING CODE 6717-01-P